DEPARTMENT OF HEALTH AND HUMAN SERVICES

National Institutes of Health

National Cancer Institute; Amended Notice of Meeting

Notice is hereby given of a change in the meeting of the National Cancer Institute Director's Consumer Liaison Group, October 17, 2013, 10:00 a.m. to October 17, 2013, 04:30 p.m., National Institutes of Health, Building 31, C- Wing, 31 Center Drive, Room 10, Bethesda, MD, 20892 which was published in the Federal Register on September 18, 2013, 78FR57400.

Due to the absence of either an FY 2014 appropriation or Continuing Resolution for the Department of Health and Human Services, the DCLG meeting is rescheduled for December 2, 2013 from 9:30 a.m. to 4:00 p.m. Additionally, the meeting location has changed to the Hyatt Regency Bethesda, 7400 Wisconsin Avenue, Bethesda, MD 20814. The meeting is open to the public and the following agenda topics will be discussed: Proposed organizational change: DEA, Biomedical Cloud Technology, Optimizing Big Data to Advance Research, and Advocate and Organizational Engagement.

Dated: November 15, 2013.
Melanie J. Gray,
Program Analyst, Office of Federal Advisory Committee Policy.

[FR Doc. 2013-27857 Filed 11-20-13; 8:45 am]

BILLING CODE 4140-01-P